DEPARTMENT OF HEALTH AND HUMAN SERVICES

Administration for Children and Families

Submission for Office of Management and Budget (OMB) Review; Generic Clearance for the Comprehensive Child Welfare Information System (CCWIS) Technical Assistance and Review Process (OMB #: 0970-0568)

AGENCY: Children's Bureau, Administration for Children and Families, U.S. Department of Health and Human Services.

ACTION: Request for public comments.

SUMMARY: The Children's Bureau (CB), Administration for Children and Families (ACF), U.S. Department of Health and Human Services (HHS) is requesting a 3-year extension of the Generic Clearance for the Comprehensive Child Welfare Information System (CCWIS) Technical Assistance (TA) and Review Process, (OMB #0970-0568, expiration 4/30/2024) and all approved information collections under this generic. There are no changes requested to the terms of the umbrella generic or to the currently approved information collections.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The CCWIS Technical Assistance and Review information collection includes two components.

• The CCWIS Assessment Review (CAR) Process.

• TA tools for title IV-E agencies to self-assess their conformity to CCWIS project and design requirements at 45 CFR 1355.52-3.

The CCWIS requirements at 45 CFR 1355.55 require the review, assessment, and inspection of the planning, design, development, installation, operation, and maintenance of each CCWIS project on a continuing basis. The Advance Planning Document (APD) regulations at 45 CFR 95.621 require periodic reviews of state and local agency methods and practices to ensure information systems, including CCWIS, are utilized for purposes consistent with proper and efficient administration.

This request is for an extension with no changes to the umbrella generic and all currently approved information collections, which can be found here: https://www.reginfo.gov/public/do/PRAICList?ref_nbr=202311-0970-010.

Respondents: Title IV-E agencies under the Social Security Act.

Annual Burden Estimates

Annual Burden—Currently Approved Information Collections
Instrument | Total number of respondents | Total number of responses per respondent (3 years) | Average burden hours per response | Total burden hours | Annual burden hours
CCWIS Self-Assessment—Administration | 55 | 1 | 10 | 550 | 183
CCWIS Self-Assessment—Adoption | 55 | 1 | 10 | 550 | 183
CCWIS Self-Assessment—Case Management | 55 | 1 | 10 | 550 | 183
CCWIS Self-Assessment—Foster Care and Service Provider Management | 55 | 1 | 10 | 550 | 183
CCWIS Self-Assessment—Intake | 55 | 1 | 10 | 550 | 183
CCWIS Self-Assessment—Investigation | 55 | 1 | 10 | 550 | 183
CCWIS Self-Assessment: Child Welfare Contributing Agency (CWCA) | 55 | 1 | 10 | 550 | 183
CCWIS Self-Assessment: Data Exchanges | 55 | 1 | 10 | 550 | 183
CCWIS Self-Assessment: Data Quality | 55 | 1 | 10 | 550 | 183
CCWIS Self-Assessment: Design Requirements | 55 | 1 | 24 | 1320 | 440
CCWIS Self-Assessment: Financial | 55 | 1 | 10 | 550 | 183
CCWIS Self-Assessment: Reporting | 55 | 1 | 10 | 550 | 183
CCWIS Self-Assessment: Security | 55 | 1 | 10 | 550 | 183
CCWIS Self-Assessment: Title IV-E Foster Care Maintenance Eligibility | 55 | 1 | 10 | 550 | 183
CCWIS Self-Assessment: User Experience | 55 | 1 | 10 | 550 | 183
Total Annual Burden for Currently Approved Generics | 9020 | 3,002

Annual Burden—Potential Additional Information Collection Requests
Instrument | Total number of respondents | Total number of responses per respondent (3 years) | Average burden hours per response | Total burden hours | Annual burden hours
Future Tools to be developed | 55 | 1 | 10 | 550 | 183

Authority: 5 U.S.C. 301; 42 U.S.C. 470, 620 et seq., 622(b), 629b(a), 652(b), 654A, 670 et seq., 671(a), 1302, and 1396a(a).

Mary C. Jones,
ACF/OPRE Certifying Officer.

[FR Doc. 2024-09226 Filed 4-29-24; 8:45 am]

BILLING CODE 4184-25-P